DEPARTMENT OF ENERGY

Environmental Management Site-Specific Advisory Board Chairs

AGENCY: Department of Energy.

ACTION: Notice of open meeting.

SUMMARY: This notice announces a meeting of the Environmental Management Site-Specific Advisory Board (EM SSAB) Chairs. The Federal Advisory Committee Act (Pub. L. 92-463, 86 Stat. 770) requires that public notice of this meeting be announced in the Federal Register.

DATES: Wednesday, September 17, 2014; 8:00 a.m.-5:00 p.m. Thursday, September 18, 2014; 8:00 a.m.-12:15 p.m.

ADDRESSES: The Shilo Inn Convention Center, 780 Lindsay Boulevard, Idaho Falls, Idaho 83402.

FOR FURTHER INFORMATION CONTACT: David Borak, Designated Federal Officer, U.S. Department of Energy, 1000 Independence Avenue SW., Washington, DC 20585; Phone: (202) 586-9928.

SUPPLEMENTARY INFORMATION:

Purpose of the Board: The purpose of the Board is to make recommendations to DOE-EM and site management in the areas of environmental restoration, waste management, and related activities.

Tentative Agenda Topics

Wednesday, September 17, 2014

○ EM Program Update

○ EM SSAB Chairs' Round Robin: Topics, Achievements, and Accomplishments

○ EM SSAB Chairs' Roundtable: Setting Budget Priorities

○ EM Acquisition and Project Management Presentation

○ Public Comment Period

Thursday, September 18, 2014

○ DOE Headquarters News and Views

○ EM Headquarters Waste Disposition Strategies

○ Public Comment

Public Participation: The EM SSAB Chairs welcome the attendance of the public at their advisory committee meetings and will make every effort to accommodate persons with physical disabilities or special needs. If you require special accommodations due to a disability, please contact David Borak at least seven days in advance of the meeting at the phone number listed above. Written statements may be filed either before or after the meeting with the Designated Federal Officer, David Borak, at the address or telephone listed above. Individuals who wish to make oral statements pertaining to agenda items should also contact David Borak. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling David Borak at the address or phone number listed above. Minutes will also be available at the following Web site: http://www.em.doe.gov/stakepages/ssabchairs.aspx.

Issued at Washington, DC, on August 26, 2014.
LaTanya R. Butler,
Deputy Committee Management Officer.

[FR Doc. 2014-20907 Filed 9-2-14; 8:45 am]

BILLING CODE 6450-01-P